NUCLEAR REGULATORY COMMISSION

[Docket No. 030-11789]

Notice of Environmental Assessment Related to the Issuance of a License Amendment to Byproduct Material License No. 24-00196-07, for Unrestricted Release of a Facility for Saint Louis University, St. Louis, MO

AGENCY: Nuclear Regulatory Commission.

ACTION: Issuance of environmental assessment and Finding of No Significant Impact for license amendment.

FOR FURTHER INFORMATION CONTACT: George M. McCann, Senior Health Physicist, Decommissioning Branch, Division of Nuclear Materials Safety, Region III, U.S. Nuclear Regulatory Commission, 2443 Warrenville Road, Lisle, Illinois 60532-4352; telephone: (630) 829-9856; or by e-mail at gmm@nrc.gov.

SUPPLEMENTARY INFORMATION: The U.S. Nuclear Regulatory Commission (NRC) is considering the issuance of an amendment to NRC Byproduct Materials License No. 24-00196-07, which is held by Saint Louis University (licensee). The amendment would authorize the unrestricted release of the licensee's former Radioactive Waste Storage Facility, located at 1008 South Spring Avenue, St. Louis, Missouri. The NRC has prepared an Environmental Assessment in support of this action in accordance with the requirements of 10 CFR part 51. Based on the Environmental Assessment, the NRC has determined that a Finding of No Significant Impact is appropriate. The amendment to Saint Louis University's license will be issued following the publication of this Environmental Assessment and Finding of No Significant Impact.

I. Environmental Assessment

Identification of Proposed Action

The proposed action would approve St. Louis University's request to amend its license and release the licensee's former waste storage facility for unrestricted use in accordance with 10 CFR part 20, subpart E. The proposed action is in accordance with the Saint Louis University's request to the U.S. Nuclear Regulatory Commission (NRC) to amend its NRC Byproduct Material License by letters dated October 31, 2005 (ADAMS Accession No. ML060180319), and January 13, 2006 (ADAMS Accession No. ML060170694). Saint Louis University is licensed as an NRC broad scope licensee and was first licensed to use byproduct materials for broad scope uses on January 19, 1976. The licensee is authorized to use byproduct materials for broad scope activities involving medical research, diagnostic and therapeutic medical procedures, laboratory studies and educational programs. The licensee is authorized to possess and use curie quantities of byproduct materials atomic number 1 through 83, inclusive.

The licensee's Radioactive Waste Storage Facility located at 1008 South Spring Avenue, St. Louis, Missouri, was designed to receive and process the licensee's research and laboratory wastes for disposal to authorized recipients. The use of the Radioactive Waste Storage Facility for waste processing activities was first authorized for use by the NRC in License No. 24-00196-07, Amendment No. 25, dated March 19, 1999. According to the licensee, use and storage of radioactive material in the Radioactive Waste Storage Facility ceased on August 12, 2005.

The licensee conducted surveys of the facility and provided this information to the NRC to demonstrate that the radiological conditions of former waste processing and storage areas, and offices located in the Radioactive Waste Storage Facility are consistent with radiological criteria for unrestricted use in 10 CFR part 20, subpart E. No radiological remediation activities are required to complete the proposed action. The NRC completed a closeout inspection and survey of the licensee's activities, which are the subject of this license amendment, on January 18, 2006 (NRC Inspection Report No. 030-11789/05-002 (DNMS) (ADAMS Accession No. ML060200576)), to conduct independent radiological surveys and to verify the licensee's survey findings.

Need for the Proposed Action

The licensee is requesting this license amendment because it no longer plans to use the Radioactive Waste Storage Facility for NRC-licensed activities at Saint Louis University. The NRC is fulfilling its responsibilities under the Atomic Energy Act to make a decision on the proposed action for decommissioning that ensures that residual radioactivity is reduced to a level that is protective of the public health and safety and the environment, and allows the Radioactive Waste Storage Facility to be released for unrestricted use.

Environmental Impacts of the Proposed Action

The NRC staff reviewed the information provided and surveys performed by the licensee to demonstrate that the release of the Radioactive Waste Storage Facility located at 1008 South Spring Avenue, St. Louis, Missouri, are consistent with the radiological criteria for unrestricted use specified in 10 CFR 20.1402. The NRC performed a closeout inspection and survey to confirm the licensee's findings. Based on its review, the staff determined that there were no radiological impacts associated with the proposed action because no radiological remediation activities were required to complete the proposed action, and that the radiological criteria for unrestricted use in § 20.1402 have been met.

Based on its review, the staff determined that the radiological environmental impacts from the proposed action for the former Radioactive Waste Storage Facility are bounded by the “Generic Environmental Impact Statement in Support of Rulemaking on Radiological Criteria for License Termination of NRC-Licensed Nuclear Facilities” (NUREG-1496). Additionally, no non-radiological or cumulative impacts were identified. Therefore, the NRC has determined that the proposed action will not have a significant effect on the quality of the human environment.

Alternatives to the Proposed Action

The only alternative to the proposed action of releasing the licensee's former Radioactive Waste Storage Facility for unrestricted use is to take no action. Under the no-action alternative, the licensee's facility would remain under an NRC license and would not be released for unrestricted use. Denial of the license amendment request would result in no change to current conditions at the University. The no-action alternative is not acceptable because it is inconsistent with 10 CFR 30.36, which requires licensees who have ceased licensed activities to request termination of their radioactive material license. This alternative would impose an unnecessary regulatory burden in controlling access to the facility, and limit potential benefits from the future use of the facility.

Conclusion

The NRC staff concluded that the proposed action is consistent with the NRC's unrestricted release criteria specified in 10 CFR 20.1402. Because the proposed action will not significantly impact the quality of the human environment, the NRC staff concludes that the proposed action is the preferred alternative.

Agencies and Persons Consulted

The NRC staff has determined that the proposed action will not affect listed species or critical habitats. Therefore, no further consultation is required under Section 7 of the Endangered Species Act. Likewise, the NRC staff has determined that the proposed action is not a type of activity that has potential to cause effect on historic properties. Therefore, consultation under Section 106 of the National Historic Preservation Act is not required.

The NRC consulted with the Missouri Department of Health and Senior Services. The Missouri Department of Health and Senior Services, Division of Community and Public Health, Office of Emergency Coordination was provided the draft EA for comment on January 19, 2006. Mr. Keith Henke, Planner III, with the Missouri Office of Emergency Coordination, responded to the NRC by telephone on January 19, 2006, indicating that the State had no comments regarding the NRC Environmental Assessment for the release of the Saint Louis University facility.

II. Finding of No Significant Impact

On the basis of the EA in support of the proposed license amendment to release the site for unrestricted use, the NRC has determined that the proposed action will not have a significant effect on the quality of the human environment. Thus, the NRC has not prepared an environmental impact statement for the proposed action.

III. Further Information

Documents related to this action, including the application for amendment and supporting documentation, are available electronically at the NRC's Electronic Reading Room at http://www.nrc.gov/reading-rm/adams.html. From this site, you can access the NRC's Agencywide Documents Access and Management System (ADAMS), which provides text and image files of NRC's public documents. If you do not have access to ADAMS, or if there are problems in accessing the documents located in ADAMS, contact the NRC Public Document Room (PDR) Reference staff at 1-800-397-4209, 301-415-4737, or by e-mail to pdr@nrc.gov. The documents and ADAMS accession numbers related to this notice are:

1. Haenchen, Mark, M.S., J.D., Director and Radiation Safety Officer, Office of Environmental Safety & Services, Saint Louis University, October 31, 2005 letter to the NRC requesting a license amendment for the release of the former Radioactive Waste Storage Facility (ML060180319).

2. Bachmann, Kenneth, M.S., Health Physicist, Saint Louis University consultant, letter dated January 13, 2006, to the NRC (ML060170694).

3. NRC Inspection Report No. 030-11789/05-002 (DNMS) dated January 20, 2006 (ML060200576).

4. U.S. Nuclear Regulatory Commission, “Environmental Review Guidance for Licensing Actions Associated with NMSS Programs,” NUREG-1748, August 2003.

5. U.S. Nuclear Regulatory Commission, “Environmental Review Guidance for Licensing Actions Associated with NMSS Programs,” NUREG-1748, August 2003.

6. U.S. Nuclear Regulatory Commission, “Generic Environmental Impact Statement in Support of Rulemaking on Radiological Criteria for License Termination of NRC-Licensed Nuclear Facilities,” NUREG-1496, August 1994.

7. NRC, NUREG-1757, “Consolidated NMSS Decommissioning Guidance,” Volumes 1-3, September 2003.

Documents may also be viewed electronically on the public computers located at the NRC's PDR, O 1 F21, One White Flint North, 11555 Rockville Pike, Rockville, MD 20852. The PDR reproduction contractor will copy documents for a fee.

Dated at Lisle, Illinois, this 27th day of January 2006.
For the Nuclear Regulatory Commission,
Jamnes L. Cameron,
Chief, Decommissioning Branch, Division of Nuclear Materials Safety, Region III.

[FR Doc. 06-1043 Filed 2-3-06; 8:45 am]

BILLING CODE 7590-01-P